ENVIRONMENTAL PROTECTION AGENCY

[OCS-EPA-R4007; DPA-EPA-R4001; FRL-9506-9]

Notice of Issuance of Final Air Permits for Eni US Operating Co., Inc. and Port Dolphin Energy, LLC.

AGENCY: Environmental Protection Agency (EPA).

ACTION: Notice of final action.

SUMMARY: This notice is to announce that on October 27, 2011, the EPA issued a final Outer Continental Shelf (OCS) air permit for Eni US Operating Inc. (Eni). This permit became effective on November 28, 2011. In addition, the EPA issued a final Prevention of Significant Deterioration (PSD) air permit for Port Dolphin Energy, LLC (Port Dolphin), which was issued and became effective on December 1, 2011.

The Eni permit regulates air pollutant emissions from the Transocean Pathfinder drillship and support vessels, which Eni intends to operate within lease block Lloyd Ridge 411 on the OCS in the Gulf of Mexico, approximately 154 miles southeast of the mouth of the Mississippi River and 189 miles south of the nearest Florida coast. The operation will last up to two years, and based on applicable permitting regulations, is a “temporary source” for permitting purposes.

The Port Dolphin permit will regulate air pollutant emissions from the operation of a liquefied natural gas deepwater port located in federal waters of the Gulf of Mexico, approximately 28 miles off the west coast of Florida, and 42 miles southwest of the pipeline landing at Port Manatee, Florida.

ADDRESSES: The final permits, the EPA's response to the public comments for the Eni permit, and additional supporting information are available at http://www.epa.gov/region4/air/permits/index.htm. Copies of the final permits and the EPA's response to comments are also available for review at the EPA Regional Office and upon request in writing. The EPA requests that you contact the person listed in the FOR FURTHER INFORMATION CONTACT section to schedule your inspection. The Regional Office's official hours of business are Monday through Friday, 8:30 to 4:30 excluding federal holidays.

FOR FURTHER INFORMATION CONTACT: Ms. Eva Land, Air Permits Section, Air Planning Branch, Air, Pesticides and Toxics Management Division, Region 4, U.S. Environmental Protection Agency, 61 Forsyth Street SW., Atlanta, Georgia 30303-8960. The telephone number is (404) 562-9103. Ms. Land can also be reached via electronic mail at land.eva@epa.gov.

SUPPLEMENTARY INFORMATION: On September 2, 2011, the EPA Region 4 Office requested public comments on a proposal to issue an OCS air permit for Eni. During the public comment period, which ended on October 3, 2011, the EPA received comments from Eni and from one other commenter who expressed general support for drilling. The EPA carefully reviewed each of the comments submitted, and after consideration of the expressed view of all interested persons, the pertinent federal statutes and regulations, the application and additional material relevant to the application and contained in the administrative record, the EPA made a decision in accordance with 40 CFR 52.21, 40 CFR part 71 and 40 CFR part 55 to issue a final OCS permit.

On October 14, 2011, the EPA Region 4 Office requested public comments on a proposal to issue an air permit for Port Dolphin. The EPA received no comments during the public comment period, which ended on November 14, 2011. The EPA made a decision in accordance with the provisions of the Deepwater Port Act (DPA) of 1974, as amended, 33 U.S.C. 1501 et seq., and in accordance with the provisions of Title I of the Clean Air Act (CAA), 42 U.S.C. 7401 et seq., and applicable rules and regulations approved or promulgated under the CAA, including air permitting rules promulgated by the Florida Department of Environmental Protection (FDEP), to issue a final permit.

Under 40 CFR 124.19(f)(2), notice of any final Agency action regarding a prevention of significant deterioration (PSD) permit must be published in the Federal Register. Section 307(b)(1) of the CAA provides for review of final Agency action that is locally or regionally applicable in the United States Court of Appeals for the appropriate circuit. Such a petition for review of final Agency action must be filed within 60 days from the date of notice of such action in the Federal Register. For purposes of judicial review under the CAA, final Agency action occurs when a final PSD permit is issued or denied by the EPA and Agency review procedures are exhausted, per 40 CFR 124.19(f)(1).

Any person who filed comments on the draft Eni permit was provided the opportunity to petition the Environmental Appeals Board by November 28, 2011. No petitions were submitted; therefore the permit became effective on November 28, 2011. No person filed comments on the draft Port Dolphin permit; therefore the permit became effective on December 1, 2011.

Dated: December 6, 2011.
Jeaneanne M. Gettle,
Acting Division Director, Air, Pesticides and Toxics, Management Division, Region 4.

[FR Doc. 2011-32177 Filed 12-14-11; 8:45 a.m.]

BILLING CODE 6560-50-P